DEPARTMENT OF COMMERCE

Bureau of the Census

National Advisory Committee on Racial, Ethnic and Other Populations

AGENCY: Bureau of the Census, Department of Commerce.

ACTION: Notice of a virtual public meeting.

SUMMARY: The Bureau of the Census (U.S. Census Bureau) is giving notice of a virtual meeting of the National Advisory Committee on Racial, Ethnic and Other Populations (NAC). The NAC will deliberate the report and recommendations proposed by the NAC's Race and Hispanic Origin Research Working Group. Last-minute changes to the schedule are possible, which could prevent giving advance public notice of schedule adjustments.

DATES: On Wednesday, August 13, 2014, the virtual meeting will begin at approximately 2:30 p.m. Eastern Time and adjourn at approximately 4:00 p.m. Eastern Time.

ADDRESSES: For members of the public wishing to attend the virtual meeting in person, a listening room will be available at the following location: U.S. Census Bureau, Conference Room 3, 4600 Silver Hill Road, Suitland, MD 20746.

FOR FURTHER INFORMATION CONTACT: Jeri Green, Jeri.Green@census.gov, Committee Liaison Officer, Department of Commerce, U.S. Census Bureau, Room 8H182, 4600 Silver Hill Road, Washington, DC 20233, telephone 301-763-6590. For TTY callers, please use the Federal Relay Service 1-800-877-8339. Also, please see the following link for further information: census.national.advisory.committee@census.gov

SUPPLEMENTARY INFORMATION: In accordance with the Federal Advisory Committee Act (FACA) (Title 5, United States Code, Appendix 2, Section 10), notice is hereby given to announce an open virtual meeting of the NAC. The NAC will meet in a virtual session on August 13, 2014. A virtual meeting of the NAC provides a cost savings to the government while still offering a venue that allows for public participation and transparency, as required by the FACA.

This virtual meeting will take place by webinar and audio conferencing technology. Members of the public, whether attending virtually or in person, should register by August 11, 2014. You may access the online registration form with the following link: https://regonline.com/nacvirtual_aug2014. Web and audio instructions to participate in this meeting will be provided to all registered participants.

Members of the public are invited to attend the meeting virtually or in person. Please see the ADDRESSES section of this notice for the location of the meeting room.

These meetings are physically accessible to people with disabilities. Requests for sign language interpretation or other auxiliary aids should be directed to the Committee Liaison Officer as soon as possible, preferably two weeks prior to the meeting. If attending in person, due to increased security and for access to the meeting, please call 301-763-9906 upon arrival at the Census Bureau on the day of the meeting. A photo ID must be presented in order to receive your visitor's badge. Visitors are not allowed beyond the first floor.

Public comments shall be provided in writing either by email or by postal mail no later than August 20, 2014. In addition, there will be a 10-minute public comment period via teleconference. Comments will be made on a first-come, first-serve basis. An operator will receive your call during the 10-minute public comment period. If you are attending the virtual meeting in person, you also will be given an opportunity to provide comments. Each public comment is limited to 2 minutes.

Any member of the public who wishes to file written comments pertaining to the agenda may do so by sending the comments via email to the census.national.advisory.committee@census.gov (subject line “Virtual NAC Meeting”), or by letter submission to Committee Liaison Officer, Virtual NAC Meeting, Department of Commerce, U.S. Census Bureau, Room 8H182, 4600 Silver Hill Road, Washington, DC 20233. Such submissions will be included in the record for the meeting if received by Monday, August 11, 2014.

Virtual Meeting Topics To Be Discussed

The primary purpose of the meeting is to provide the NAC with an opportunity to discuss the Race and Hispanic Origin Working Group Recommendations. Meeting materials and agenda will be posted to the following site several days prior to the virtual event: https://www.census.gov/cac/about_census_advisory_committees/2014_meetings.html.

All meetings are open to the public. A brief period will be set aside at the meeting for public comment on August 13, 2014.

Dated: July 23, 2014.
Nancy A. Potok,
Deputy Director, Bureau of the Census.

[FR Doc. 2014-17807 Filed 7-25-14; 8:45 am]

BILLING CODE 3510-07-P